DEPARTMENT OF HEALTH AND HUMAN SERVICES

Centers for Disease Control and Prevention

Ethics Subcommittee, Advisory Committee to the Director (ACD), Centers for Disease Control and Prevention (CDC)

In accordance with section 10(a)(2) of the Federal Advisory Committee Act (Pub. L. 92-463), the Centers for Disease Control and Prevention announces the following meeting of the aforementioned subcommittee:

Time and Date: 10 a.m.-11:30 a.m., October 15, 2009.

Place: Teleconference. To participate in the teleconference, please dial (866) 919-3560 enter passcode 4168828.

Status: Open to the public; teleconference access is limited only by availability of telephone ports. The public is welcome to participate during the public comment period which is tentatively scheduled from 11:10 a.m.-11:20 a.m.

Purpose: The Ethics Subcommittee will provide counsel to the ACD, CDC, regarding a broad range of public health ethics questions and issues arising from programs, scientists and practitioners.

Matter To Be Discussed: Ethical guidance for ventilator distribution during a severe pandemic.

Agenda items are subject to change as priorities dictate.

Contact Person for More Information: Drue Barrett, PhD, Designated Federal Officer, Ethics Subcommittee, CDC, 1600 Clifton Road, NE., M/S D-50, Atlanta, Georgia 30333. Telephone (404) 639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: September 22, 2009.
Elaine L. Baker,
Director, Management Analysis and Services Office, Centers for Disease Control and Prevention.

[FR Doc. E9-23300 Filed 9-25-09; 8:45 am]

BILLING CODE 4163-18-P